DEPARTMENT OF TRANSPORTATION

Federal Highway Administration

Notice of Final Federal Agency Actions on Proposed Highway in Washington

AGENCY: Federal Highway Administration (FHWA), DOT.

ACTION: Notice of limitation on claims for Judicial Review of actions by FHWA.

SUMMARY: The FHWA final actions relate to a proposed highway project, I-405 between Mileposts 11.9 and 14.6 in Bellevue in the County King, State of Washington. Those actions grant approvals for the project.

DATES: By this notice, FHWA is advising the public of final agency actions subject to 23 U.S.C. 139(l)(1). A claim seeking judicial review of the Federal agency actions on the highway project will be barred unless the claim is filed on or before September 27, 2019. If the Federal law that authorizes judicial review of a claim provides a time period of less than 150 days for filing such claim, then that shorter time period still applies.

FOR FURTHER INFORMATION CONTACT: For FHWA, Lindsey Handel, Area Engineer, Federal Highway Administration, 711 S Capitol Way, Suite 501, Olympia, WA 98501-1284, (360) 753-9550. For Washington State Department of Transportation (WSDOT), Lisa Hodgson, I-405/SR 167 Deputy Program Administrator, Washington State Department of Transportation, 600 108th Avenue NE, Suite 405, Bellevue, Washington 98004, (425) 456-8543, or hodgsol@wsdot.wa.gov.

SUPPLEMENTARY INFORMATION: Notice is hereby given that FHWA has taken final agency action(s) subject to 23 U.S.C. 139(l)(1) by issuing approvals for the following highway project in the State of Washington: The I-405, Downtown Bellevue Vicinity Express Toll Lanes Project extends along I-405 approximately 2.7 miles from just north of the I-90 Interchange to north of the NE 6th Street interchange. The Project proposes widening and/or restriping the roadway to develop a dual express toll lane (ETL) system in each direction. The ETL system will be a combination of building a new lane and converting the existing single high-occupancy vehicle (HOV) lane. Improvements also include widening the northbound off-ramp to SR 520 from two lanes to three lanes; making overpass and bridge improvements at Main Street and SE 8th Street; and constructing a new bridge for bicycles and pedestrians over southbound I-405 and a section of trail to connect with the Eastside Rail Corridor Regional Trail. Other improvements include stormwater facility expansion, pavement markings, drainage improvements, signing, illumination, intelligent transportation systems, barriers, and tolling gantries.

The actions by the Federal agencies, and the laws under which such actions were taken, are described in the I-405, Downtown Bellevue Vicinity Express Toll Lanes Project Environmental Assessment issued on April 2, 2018, Finding of No Significant Impact (FONSI) for the project approved on July 12, 2018, and in other documents in the project records. The FONSI, and other project records are available from FHWA and WSDOT at the addresses provided above and can be found online at: http://www.wsdot.wa.gov/projects/i405/rentontobellevue/downtown-bellevue-environmental-assessment.

This notice applies to all Federal agency decisions that are final as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401-7671q).

3. Land: Section 4(f) of the Department of Transportation Act of 1966 (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (16 U.S.C. 470f); Archeological Resources Protection Act of 1977 (16 U.S.C. 470aa-470mm); Archeological and Historic Preservation Act (16 U.S.C. 469-469c); Native American Grave Protection and Repatriation Act (NAGPRA) (25 U.S.C. 3001-3013).

6. Social and Economic: American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601-4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: April 19, 2019.
Daniel M. Mathis,
Division Administrator, Federal Highway Administration, Olympia, Washington.

[FR Doc. 2019-08634 Filed 4-29-19; 8:45 am]

BILLING CODE 4910-RY-P